DEPARTMENT OF TRANSPORTATION

Federal Aviation Administration

14 CFR Part 97

[Docket No. 31188; Amdt. No. 3795]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 20, 2018. The compliance date for each SIAP, associated Takeoff Minimums, and ODP is specified in the amendatory provisions.

The incorporation by reference of certain publications listed in the regulations is approved by the Director of the Federal Register as of April 20, 2018.

ADDRESSES: Availability of matters incorporated by reference in the amendment is as follows:

For Examination

1. U.S. Department of Transportation, Docket Ops-M30, 1200 New Jersey Avenue SE, West Bldg., Ground Floor, Washington, DC, 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125), Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on April 6, 2018.
John S. Duncan,
Director, Flight Standards Service.

Adoption of the Amendment

Accordingly, pursuant to the authority delegated to me, Title 14, Code of Federal Regulations, part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 24 May 2018

Wetumpka, AL, Wetumpka Muni, RNAV (GPS) RWY 9, Orig-B

Glendale, AZ, Glendale Muni, Takeoff Minimums and Obstacle DP, Amdt 2

Phoenix, AZ, Phoenix Deer Valley, Takeoff Minimums and Obstacle DP, Amdt 6

Phoenix, AZ, Phoenix Goodyear, Takeoff Minimums and Obstacle DP, Amdt 2

Phoenix, AZ, Phoenix-Mesa Gateway, Takeoff Minimums and Obstacle DP, Amdt 2

Scottsdale, AZ, Scottsdale, Takeoff Minimums and Obstacle DP, Amdt 9

Los Angeles, CA, Whiteman, Takeoff Minimums and Obstacle DP, Amdt 1

Los Angeles, CA, WHITEMAN ONE, Graphic DP

Santa Monica, CA, Santa Monica Muni, RNAV (GPS) RWY 21, Amdt 1B

Springfield, CO, Springfield Muni, Takeoff Minimums and Obstacle DP, Orig-A

Clewiston, FL, Airglades, RNAV (GPS) RWY 13, Orig-A

DeFuniak Springs, FL, DeFuniak Springs, RNAV (GPS) RWY 9, Amdt 1

DeFuniak Springs, FL, DeFuniak Springs, RNAV (GPS) RWY 27, Amdt 2

Guam, GU, Guam Intl, ILS OR LOC RWY 6L, Amdt 4A

Guam, GU, Guam Intl, ILS OR LOC RWY 6R, Orig-C

Guam, GU, Guam Intl, NDB RWY 24R, Amdt 1A

Guam, GU, Guam Intl, RNAV (GPS) Y RWY 6L, Amdt 1B

Guam, GU, Guam Intl, RNAV (GPS) Y RWY 6R, Amdt 1B

Guam, GU, Guam Intl, RNAV (GPS) Y RWY 24L, Amdt 1C

Guam, GU, Guam Intl, RNAV (GPS) Y RWY 24R, Amdt 2A

Guam, GU, Guam Intl, RNAV (RNP) Z RWY 24R, Amdt 1A

Guam, GU, Guam Intl, VOR-A, Orig-F

Guam, GU, Guam Intl, VOR OR TACAN RWY 6L, Orig-F

Guam, GU, Guam Intl, VOR OR TACAN RWY 24R, Amdt 1A

Kailua/Kona, HI, Ellison Onizuka Kona Intl at Keahole, RNAV (RNP) Z RWY 17, Orig-B

Fort Madison, IA, Fort Madison Muni, RNAV (GPS) RWY 17, Amdt 1

Fort Madison, IA, Fort Madison Muni, RNAV (GPS) RWY 35, Amdt 1

Muscatine, IA, Muscatine Muni, ILS OR LOC RWY 24, Amdt 2A

Newton, IA, Newton Muni-Earl Johnson Field, ILS OR LOC RWY 32, Amdt 3

Newton, IA, Newton Muni-Earl Johnson Field, RNAV (GPS) RWY 32, Amdt 1

Chicago, IL, Lansing Muni, RNAV (GPS) RWY 9, Orig-B

Chicago/West Chicago, IL, DuPage, ILS OR LOC RWY 2L, Amdt 2F

St James, MN, St James Muni, Takeoff Minimums and Obstacle DP, Orig-A

Bozeman, MT, Bozeman Yellowstone Intl, BOZEMAN SIX, Graphic DP

Bozeman, MT, Bozeman Yellowstone Intl, ILS OR LOC RWY 12, Amdt 9B

Bozeman, MT, Bozeman Yellowstone Intl, RNAV (GPS)-A, Amdt 2B

Bozeman, MT, Bozeman Yellowstone Intl, RNAV (GPS) Y RWY 12, Orig-B

Bozeman, MT, Bozeman Yellowstone Intl, Takeoff Minimums and Obstacle DP, Amdt 4B

Bozeman, MT, Bozeman Yellowstone Intl, VOR RWY 12, Amdt 15B

Helena, MT, Helena Rgnl, COPTER VOR 254, Orig

Missoula, MT, Missoula Intl, GRZLY THREE, Graphic DP

Missoula, MT, Missoula Intl, Takeoff Minimums and Obstacle DP, Amdt 9

Ahoskie, NC, Tri-County, VOR-A, Amdt 6A

Chapel Hill, NC, Horace Williams, VOR RWY 27, Amdt 1D

Currituck, NC, Currituck County Rgnl, RNAV (GPS) RWY 23, Orig-B

Erwin, NC, Harnett Rgnl Jetport, LOC RWY 5, Orig-A

Roxboro, NC, Person County, ILS OR LOC RWY 6, Amdt 1A

Smithfield, NC, Johnston Rgnl, ILS Z OR LOC Z RWY 3, Amdt 2A

Hebron, NE, Hebron Muni, Takeoff Minimums and Obstacle DP, Orig-A

Omaha, NE, Eppley Airfield, ILS OR LOC RWY 14L, Amdt 2

Omaha, NE, Eppley Airfield, ILS OR LOC RWY 14R, ILS RWY 14R (SA CAT I), ILS RWY 14R (CAT II), ILS RWY 14R (CAT III), Amdt 6

Omaha, NE, Eppley Airfield, ILS OR LOC RWY 18, Amdt 10

Omaha, NE, Eppley Airfield, ILS OR LOC RWY 32L, Amdt 3

Omaha, NE, Eppley Airfield, ILS OR LOC RWY 32R, ILS RWY 32R (CAT II), ILS RWY 32R (CAT III), Amdt 1

Omaha, NE, Eppley Airfield, ILS OR LOC RWY 36, Amdt 1

Omaha, NE, Eppley Airfield, RNAV (GPS) Y RWY 14L, Amdt 2

Omaha, NE, Eppley Airfield, RNAV (GPS) Y RWY 14R, Amdt 3

Omaha, NE, Eppley Airfield, RNAV (GPS) Y RWY 18, Amdt 4

Omaha, NE, Eppley Airfield, RNAV (GPS) Y RWY 32L, Amdt 2

Omaha, NE, Eppley Airfield, RNAV (GPS) Y RWY 32R, Amdt 1

Omaha, NE, Eppley Airfield, RNAV (GPS) Y RWY 36, Amdt 2

Omaha, NE, Eppley Airfield, RNAV (RNP) Z RWY 14L, Orig-B

Omaha, NE, Eppley Airfield, RNAV (RNP) Z RWY 14R, Orig-C

Omaha, NE, Eppley Airfield, RNAV (RNP) Z RWY 18, Orig-B

Omaha, NE, Eppley Airfield, RNAV (RNP) Z RWY 32L, Orig-B

Omaha, NE, Eppley Airfield, RNAV (RNP) Z RWY 32R, Amdt 1

Omaha, NE, Eppley Airfield, RNAV (RNP) Z RWY 36, Orig-B

Omaha, NE, Eppley Airfield, Takeoff Minimums and Obstacle DP, Amdt 6A

Zuni Pueblo, NM, Black Rock, RNAV (GPS) RWY 6, Orig, CANCELED

Zuni Pueblo, NM, Black Rock, Takeoff Minimums and Obstacle DP, Amdt 1, CANCELED

Zuni Pueblo, NM, Black Rock, VOR/DME RWY 6, Amdt 2B, CANCELED

Ashland, OH, Ashland County, RNAV (GPS) RWY 19, Orig-E

Kent, OH, Kent State Univ, RNAV (GPS) RWY 1, Amdt 2

Napoleon, OH, Henry County, RNAV (GPS) RWY 28, Amdt 1

Napoleon, OH, Henry County, VOR RWY 28, Amdt 4, CANCELED

Wadsworth, OH, Wadsworth Muni, RNAV (GPS) RWY 2, Amdt 2

Wadsworth, OH, Wadsworth Muni, RNAV (GPS) RWY 20, Amdt 2

Wauseon, OH, Fulton County, RNAV (GPS) RWY 27, Orig-B

Miami, OK, Miami Rgnl, RNAV (GPS) RWY 17, Amdt 1

New Castle, PA, New Castle Muni, RNAV (GPS) RWY 5, Amdt 1C

New Castle, PA, New Castle Muni, RNAV (GPS) RWY 23, Amdt 1C

Philadelphia, PA, Northeast Philadelphia, ILS OR LOC RWY 24, Amdt 13

Philadelphia, PA, Northeast Philadelphia, LOC BC RWY 6, Amdt 8

Philadelphia, PA, Northeast Philadelphia, RNAV (GPS) RWY 24, Amdt 1

Philadelphia, PA, Northeast Philadelphia, VOR RWY 6, Amdt 12B, CANCELED

Philadelphia, PA, Northeast Philadelphia, VOR RWY 24, Amdt 19B, CANCELED

Zelienople, PA, Zelienople Muni, RNAV (GPS) RWY 17, Amdt 1A

Zelienople, PA, Zelienople Muni, RNAV (GPS) RWY 35, Amdt 1A

Gallatin, TN, Sumner County Rgnl, RNAV (GPS) RWY 17, Amdt 3

Gallatin, TN, Sumner County Rgnl, RNAV (GPS) RWY 35, Amdt 3

Edna, TX, Jackson County, RNAV (GPS)-A, Orig-A

Edna, TX, Jackson County, RNAV (GPS)-B, Orig-A

Rescinded: On March 29, 2018 (83 FR 13411), the FAA published an Amendment in Docket No. 31184, Amdt No. 3791, to Part 97 of the Federal Aviation Regulations under section 97.29 and 97.33. The following entries for New York, NY, effective May 24, 2018, is hereby rescinded in their entirety:

New York, NY, John F Kennedy Intl, COPTER RNAV (GPS) 027, Orig-C

New York, NY, John F Kennedy Intl, ILS OR LOC RWY 22R, Amdt 2B

[FR Doc. 2018-08140 Filed 4-19-18; 8:45 am]

BILLING CODE 4910-13-P